DEPARTMENT OF ENERGY

Federal Energy Regulatory Commission

[Docket No. GT02-13-000]

Tennessee Gas Pipeline Company; Notice of Tariff Filing

April 3, 2002.

Take notice that on March 28, 2002, Tennessee Gas Pipeline Company (Tennessee), tendered for filing as part of its FERC Gas Tariff, Fifth Revised Volume No. 1, Fourth Revised Sheet No. 402, with an effective date of May 1, 2002.

Tennessee states that the revised tariff sheet is being filed to reconcile a potential conflict between the General Terms and Conditions (GT&C) of its FERC Gas Tariff and its pro forma storage agreement under Rate Schedule FS, by removing the March 31 termination date requirement for Rate Schedule FS agreements from Article XXVIII Section 2(b) of its GT&C. Tennessee further states that the proposed changes will enable Tennessee to offer its customers the contracting flexibility they have requested.

Any person desiring to be heard or to protest said filing should file a motion to intervene or a protest with the Federal Energy Regulatory Commission, 888 First Street, NE, Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Magalie R. Salas,
Secretary.

[FR Doc. 02-8505 Filed 4-8-02; 8:45 am]

BILLING CODE 6717-01-P